DEPARTMENT OF AGRICULTURE

Office of Partnerships and Public Engagement

Advisory Committee on Beginning Farmers and Ranchers

AGENCY: Office of Partnerships and Public Engagement (OPPE), U.S. Department of Agriculture (USDA).

ACTION: Announcement of Public Meeting of the Advisory Committee on Beginning Farmers and Ranchers (ACBFR).

SUMMARY: Pursuant to the Federal Advisory Committee Act (FACA) and rules and regulations of the USDA, the Office of Partnership and Public Engagement (OPPE) announces a meeting of the Advisory Committee on Beginning Farmers and Ranchers (ACBFR). The purpose of the ACBFR meeting is to deliberate upon matters concerning beginning farmers and ranchers that provide advice and recommendations through OPPE for the Secretary.

The most up-to-date agenda details and documents will be made available to the public before and after the meeting at: https://www.outreach.usda.gov/committees/ACBFR.htm.

DATES: The ACBFR meeting will be held on Thursday, October 31, 2019, at 9:00 a.m. to 5:00 p.m. (Eastern Time Zone) and on Friday, November 1, 2019 at 8:00 a.m. to 11:00 a.m. (Eastern Time Zone). An Executive Session—Administrative meeting (USDA and Committee Members only) will be held 11:15 a.m.-Noon.

ADDRESSES:

(a) Attendance in-person: Omni Severin Hotel, 40 W Jackson Pl, Indianapolis, IN 46225.

(b) Public Call Information—Listen Only: Dial: 866-816-7252 Conference ID: 6188761.

(c) Comments may be sent to: ACBeginningFarmersandRanchers@usda.gov.

FOR FURTHER INFORMATION CONTACT: Designated Federal Officer (DFO) Maria Goldberg, OPPE, 202-720-6350, or email: maria.goldberg@usda.gov.

This notice is being published less than 15 days prior to the meeting due to scheduling difficulties.

SUPPLEMENTARY INFORMATION: Members of the public are entitled to make comments during the public comment session. Commenters will be allowed a maximum of three minutes and will be scheduled on a first- come basis. If the number of persons requesting to speak is greater than what can be reasonably accommodated during the scheduled open public meeting timeframe; written comments may be submitted.

Written comments for the Committee's consideration may be submitted to Ms. Maria Goldberg, Designated Federal Officer, USDA OPPE, 1400 Independence Avenue, Room 533-A, Washington, DC 20250-0170; Fax (202) 720-7136; or email: ACBeginningFarmersandRanchers@usda.gov. Written comments must be received by OPPE within 30 days after the scheduled meeting.

Meeting Accommodations: USDA is committed to ensuring that all persons are included in our programs and events. If you are a person with a disability and require reasonable accommodations to participate in this meeting, please contact Maria Goldberg, 202-720-6350 or email: maria.goldberg@usda.gov.

Riley W. Pagett,
Chief of Staff, Office of Partnerships and Public Engagement, U.S. Department of Agriculture.

[FR Doc. 2019-23244 Filed 10-24-19; 8:45 am]

BILLING CODE 3412-89-P